DEPARTMENT OF ENERGY

Federal Energy Regulatory Commission

[Project Nos. 13429-001; 14455-000]

City of Burlington, IA; FFP Iowa 5, LLC; Notice of Competing Preliminary Permit Applications Accepted for Filing and Soliciting Comments, Motions To Intervene, and Competing Applications

On September 4, 2012, the City of Burlington, Iowa filed an application, pursuant to section 4(f) of the Federal Power Act (FPA), proposing to study the feasibility of the City of Burlington Hydropower Project (Burlington Project) No. 13429-001, to be located on the Mississippi River, in Des Moines County, Iowa and Henderson County, Illinois. On the same date, FFP Iowa 5, LLC filed an application, pursuant to the FPA, proposing to study the feasibility of the Mississippi Lock and Dam No. 18 Water Power Project (L&D 18 Project) No. 14455, which would occupy approximately the same area as the Burlington Project.

The proposed Burlington and L&D 18 projects would be located at the existing U.S. Army Corps of Engineers' (Corps) Lock and Dam No. 18, which consists of: (1) A 1,350-foot-long control dam with 14 tainter gates and 3 roller gates; (2) a 2,200-foot-long submersible earth dyke; and (3) an approximately 12,000-acre reservoir at a normal maximum pool elevation of 529.5 feet mean sea level (msl).

The proposed Burlington Project would consist of: (1) Twenty-four very-low-head turbine-generator units that would have a generating capacity of 500 kilowatts each for a total installed capacity of 12 megawatts; (2) a 675-foot-long reinforced concrete structure enclosing the turbine-generator units and having a top of deck elevation of 528 feet msl, to be constructed on the western half of the existing dam and immediately downstream of the existing submersible dyke; (3) a 1-mile-long, 12.5-kilovolt (kV) transmission line; and (4) appurtenant facilities. The project would have an estimated average annual generation of 66,200 megawatts-hours (MWh).

Applicant Contact: Mr. Jim Ferneau, City Manager, City of Burlington, 400 Washington Street, Burlington, IA 52601; phone: (319) 753-8120.

The proposed L&D 18 Project would consist of: (1) A reinforced concrete powerhouse located on the western half of the existing dam and containing four horizontal Kaplan bulb or pit-Kaplan turbine-generator units, each rated at 6.25 MW for a total installed capacity of 25 MW; (2) a substation constructed adjacent to the powerhouse; (3) a 30,000-foot-long, 12.5-kV overhead transmission line; and (4) appurtenant facilities. The project would have an estimated average annual generation of 100,000 MWh.

Applicant Contact: Ramya Swaminathan, Free Flow Power Corporation, 239 Causeway Street, Suite 300, Boston, MA 02114; phone: (978) 226-1531.

FERC Contact: Sergiu Serban, (202) 502-6211.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13429 or 14455) in the docket number field to access the document. For assistance, call toll-free 1-866-208-3372.

Dated: October 12, 2012.
Kimberly D. Bose,
Secretary.

[FR Doc. 2012-25683 Filed 10-18-12; 8:45 am]

BILLING CODE 6717-01-P